DEPARTMENT OF ENERGY

Federal Energy Regulatory Commission

[Docket No. EL11-25-000]

PPL EnergyPlus, LLC v. PJM Interconnection, L.L.C.; Notice of Complaint

Take notice that on March 2, 2011, PPL EnergyPlus, LLC (PPL EnergyPlus or Complainants), pursuant to Rule 206 of the Rules of Practice and Procedure of the Federal Energy Regulatory Commission (Commission), 18 CFR 385.206 (2010) and section 206 of the Federal Power Act, 16 U.S.C. 824e and 825e (2006), filed a formal complaint against PJM Interconnection, L.L.C. (PJM or Respondent), alleging that PJM failed to conduct its annual financial transmission rights auction and the associated annual auction revenue rights allocations for the 2010/2011 planning period in accordance with the requirements of the PJM Open Access Transmission Tariff and that PJM plans to conduct the annual financial transmission rights auction and the associated auction revenue rights allocations for the 2011/2012 planning period in violation of the PJM Open Access Transmission Tariff.

PPL EnergyPlus certifies that copies of the complaint were served on the contacts for PJM as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 16, 2011.

Dated: March 3, 2011.
Kimberly D. Bose,
Secretary.

[FR Doc. 2011-5319 Filed 3-8-11; 8:45 am]

BILLING CODE 6717-01-P